ENVIRONMENTAL PROTECTION AGENCY

[FRL-7599-5]

Adequacy Status of Motor Vehicle Budgets in Submitted State Implementation Plan for Transportation Conformity Purposes; Washington, DC Metropolitan Area (DC-MD-VA)

AGENCY: Environmental Protection Agency (EPA).

ACTION: Notice of adequacy status.

SUMMARY: EPA is announcing that the motor vehicle emission budgets (the budgets) for the Metropolitan Washington, DC One-Hour Ozone Nonattainment Area (the Washington, DC area) identified in the revised 2005 Attainment Demonstration Plan (attainment plan) and the 2005 Rate of Progress (ROP) plan are adequate for transportation conformity purposes. This attainment plan was submitted to EPA by the Commonwealth of Virginia, the State of Maryland and the District of Columbia as State Implementation Plan (SIP) revisions on August 19, 2003, September 2, 2003, and September 5, 2003, respectively. These SIP revision submittals included ROP plans for 2002 and 2005 which also identified motor vehicle emissions budgets. EPA has made findings of adequacy for the budgets of the attainment plan and the 2005 ROP plan for transportation conformity purposes. EPA has taken no action on the budgets identified in the 2002 ROP plan.

DATES: The findings that the budgets identified in the attainment plan and 2005 ROP plan are adequate were made in letters dated December 9, 2003 from EPA Region III to the three jurisdictions (DC-MD-VA). These adequacy findings are effective on December 31, 2003.

FOR FURTHER INFORMATION CONTACT: Martin Kotsch, U.S. EPA, Region III, 1650 Arch Street, Philadelphia, PA 19103 at (215) 814-3335 or by e-mail at kotsch.martin@epa.gov.

SUPPLEMENTARY INFORMATION: Throughout this document “we,” “ us,” or “our” refer to EPA. The word “budgets” refers to the motor vehicle emission budgets for volatile organic compounds (VOCs) and nitrogen oxides (NOX). The word “SIP” in this document refers to the revised 2005 attainment plan for the Washington, DC area submitted to EPA as a SIP revision by the Commonwealth of Virginia, the State of Maryland and the District of Columbia on August 19, 2003, September 2, 2003 and September 5, 2003, respectively. These SIP revision submittals also included ROP plans for 2002 and 2005 which identified motor vehicle emissions budgets.

On March 2, 1999, the DC Circuit Court ruled that motor vehicle emission budgets contained in submitted SIPs cannot be used for conformity determinations until EPA has affirmatively found them adequate.

The Commonwealth of Virginia, the State of Maryland and the District of Columbia formally submitted identical SIP revisions to EPA on August 19, 2003, September 2, 2003 and September 5, 2003, respectively, consisting of a revised 2005 attainment plan and initial 2002 and 2005 Rate ROP plans for the Washington, DC area. On September 10, 2003, we posted the availability of the plans and their identified budgets on our conformity Web site for the purpose of soliciting public comment on the adequacy of the budgets. EPA's public comment period closed on October 10, 2003. We received comments from the Sierra Club.

On December 9, 2003, EPA Region III sent a letter to each of the three jurisdictions (DC-MD-VA) that constituted final Agency action on the adequacy of the motor vehicle emission budgets contained in the revised attainment plan and in the 2005 ROP plan. That action was EPA's finding that the budgets identified in the revised attainment plan and 2005 ROP plan for the Washington, DC area are adequate for transportation conformity purposes. As a result of our December 9, 2003 findings, the budgets contained in the revised 2005 attainment plan and the 2005 ROP plan for the Washington, DC area may be used for future conformity determinations. The 2002 ROP plan submitted as part of the SIP revision by the three jurisdictions showed a shortfall in the level of VOC emissions reductions required to demonstrate ROP. EPA has taken no action with regard to the adequacy of the budgets identified in the 2002 ROP plan because we understand that the states are revising that 2002 ROP plan to reflect that there is, in fact, no VOC shortfall for the 2002 milestone year. EPA has, therefore, made findings of adequacy only for the budgets identified in the revised attainment plan and the budgets identified in the 2005 ROP plan. These budgets will be needed for conformity and transportation planning.

This is an announcement of adequacy findings that we made on December 9, 2003. The effective date of these findings is December 31, 2003. These findings will also be announced on EPA's Web site: http://www.epa.gov/otaq/transp.htm (once there, click on the “Conformity” button). The Web site will contain a detailed analysis of our adequacy findings.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the national ambient air quality standards. The criteria by which we determine whether a SIP's budgets are adequate for conformity purposes are outlined in 40 CFR 93.118 (e)(4) through (5).

Please note that these adequacy findings for the budgets identified in the revised attainment plan and 2005 ROP plan are separate from EPA's completeness determination of the revised SIP submission, and separate from EPA's action to approve or disapprove the revised SIP. Even though we have found the motor vehicle emission budgets of the Washington, DC area's revised 2005 attainment plan and 2005 ROP plan adequate, and they are replacing the previously approved budgets, those motor vehicle emission budgets contained in the revised attainment plan and 2005 ROP plan still have to be approved or disapproved.

Dated: December 9, 2003.
Thomas Voltaggio,
Acting Regional Administrator, Region III.

[FR Doc. 03-31005 Filed 12-15-03; 8:45 am]

BILLING CODE 6560-50-P